DEPARTMENT OF HEALTH AND HUMAN SERVICES

Health Resources and Services Administration

Meeting of the CDC/HRSA Advisory Committee on HIV, Viral Hepatitis and STD Prevention and Treatment

AGENCY: Health Resources and Services Administration (HRSA), Department of Health and Human Services (HHS).

ACTION: Notice.

SUMMARY: In accordance with the Federal Advisory Committee Act, this notice announces that the Secretary's Centers for Disease Control and Prevention (CDC)/HRSA Advisory Committee on HIV, Viral Hepatitis and STD Prevention and Treatment (CHAC) has scheduled a public meeting. Information about CHAC and the agenda for this meeting can be found on the CHAC website at https://www.cdc.gov/maso/facm/facmCHACHSPT.html and the meeting website at https://targethiv.org/ta-org/chac.

DATES:

• November 1, 2022, 12:30 p.m.-5:00 p.m. Eastern Time (ET);

• November 2, 2022, 12:30 p.m.-5:30 p.m. ET; and

• November 3, 2022, 12:30 p.m.-4:00 p.m. ET.

ADDRESSES: This meeting will be held virtually. Advance registration is required to attend. Please visit the meeting website to register. The registration deadline is Friday, October 28, 2022, at 12:00 p.m. ET. Prior to the meeting, each individual registrant will receive a registration confirmation along with an access link to the virtual meeting location.

• Meeting website link: https://targethiv.org/ta-org/chac.

FOR FURTHER INFORMATION CONTACT: Theresa Jumento, Senior Public Health Advisor, HIV/AIDS Bureau, HRSA, 301-443-5807; or CHACAdvisoryComm@hrsa.gov.

SUPPLEMENTARY INFORMATION: CHAC provides advice and recommendations to the Secretary of HHS (Secretary) on policy, program development, and other matters of significance concerning the activities under Section 222 of the Public Health Service Act, 42 U.S.C. 217a.

The purpose of the CHAC is to advise the Secretary of HHS, the Director of CDC, and the HRSA Administrator regarding objectives, strategies, policies, and priorities for the prevention and treatment of HIV, viral hepatitis, and other STDs, including: surveillance, epidemiologic, behavioral, health services, and laboratory research, identification of policy issues related to professional eduction, patient healthcare delivery, and prevention services; Agency policies regarding health care delivery, research and training; strategic issues influencing the ability of CDC and HRSA to fulfill their missions programmatic efforts to prevent and treat HIV, viral hepatitis, and other STDs; and support to the CDC and HRSA in their development of responses to emerging health needs related to these issues.

During the November 1-3, 2022, meeting, CHAC will discuss issues related to HIV and the workforce, including non-traditional partnerships to address people with HIV who are out of care, AIDS Education and Training Center program and integrating innovative programs to address HIV workforce challenges into the Ryan White HIV/AIDS Program, and how to more effectively use community health workers and disease intervention specialists in HIV and STD prevention, care, and treatment, along with a federal update on Monkeypox. Agenda items are subject to change as priorities dictate. Refer to the CHAC meeting information page for any updated information concerning the meeting.

Members of the public will have the opportunity to provide comments. Public participants may also submit written statements as further described below. Oral comments will be honored in the order they are requested and may be limited as time allows. Requests to submit a written statement or make oral comments to CHAC should be sent via the meeting website at https://targethiv.org/ta-org/chac. Requests for oral comment must be received by October 25, 2022, at 5 p.m. ET to be considered. Written comments may be submitted to Theresa Jumento at the email address and/or phone number listed above prior to and up to ten business days after the meeting. Visit the meeting information page for additional details: https://targethiv.org/ta-org/chac.

Individuals who plan to attend and need special assistance or another reasonable accommodation should notify Theresa Jumento at the email address and/or phone number listed above at least 10 business days prior to the meeting.

Maria G. Button,
Director, Executive Secretariat.

[FR Doc. 2022-20528 Filed 9-21-22; 8:45 am]

BILLING CODE 4165-15-P